DEPARTMENT OF TRANSPORTATION

Federal Aviation Administration

14 CFR Part 39

[Docket No. FAA-2017-0115; Directorate Identifier 2017-NE-04-AD; Amendment 39-18824; AD 2017-04-51]

RIN 2120-AA64

Airworthiness Directives; Safran Helicopter Engines, S.A., Turboshaft Engines

AGENCY: Federal Aviation Administration (FAA), DOT.

ACTION: Final rule; request for comments.

SUMMARY: We are adopting a new airworthiness directive (AD) for all Safran Helicopter Engines, S.A., Arriel 1A1, 1A2, 1B, 1C, 1C1, 1C2, 1D, 1D1, 1E2, 1K1, 1S, and 1S1 turboshaft engines. Emergency AD 2017-04-51 was sent previously to all known U.S. owners and operators of these engines. This AD requires inspecting, wrapping, and replacing the affected drain valve assembly (DV) installed on these Arriel 1 engines. This AD was prompted by reports of fuel leaks originating from the DV on certain Arriel engines. We are issuing this AD to correct the unsafe condition on these products.

DATES: This AD is effective March 30, 2017 to all persons except those persons to whom it was made immediately effective by Emergency AD 2017-04-51, issued on February 8, 2017, which contained the requirements of this amendment.

The Director of the Federal Register approved the incorporation by reference of a certain publication identified in this AD as of March 30, 2017.

We must receive comments on this AD by May 1, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Safran Helicopter Engines, S.A., 40220 Tarnos, France; phone: (33) 05 59 74 40 00; fax: (33) 05 59 74 45 15.

Examining the AD Docket

You may examine the AD docket on the Internet at http://www.regulations.gov by searching for and locating Docket No. FAA-2017-0115; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Robert Green, Aerospace Engineer, Engine Certification Office, FAA, Engine & Propeller Directorate, 1200 District Avenue, Burlington, MA 01803; phone: 781-238-7754; fax: 781-238-7199; email: robert.green@faa.gov.

SUPPLEMENTARY INFORMATION:

Discussion

On February 8, 2017, we issued Emergency AD 2017-04-51, which requires inspecting, wrapping, and replacing the DV. This emergency AD was sent previously to all known U.S. owners and operators of these Safran Helicopter Engines, S.A., Arriel 1A1, 1A2, 1B, 1C, 1C1, 1C2, 1D, 1D1, 1E2, 1K1, 1S, and 1S1 turboshaft engines. This action was prompted by reports of fuel leaks originating from the DV on certain Arriel engines. This condition, if not corrected, could result in engine compartment fire, in-flight shutdown, and damage to the helicopter.

Relevant Service Information Under 1 CFR Part 51

We reviewed Safran Helicopter Engines Alert Mandatory Service Bulletin A292 73 0851, Version A, dated January 31, 2017. The MSB describes procedures for inspecting, wrapping, and replacing the DV. This service information is reasonably available because the interested parties have access to it through their normal course of business or by the means identified in the ADDRESSES section.

FAA's Determination

We are issuing this AD because we evaluated all the relevant information and determined the unsafe condition described previously is likely to exist or develop in other products of the same type design.

AD Requirements

This AD requires inspecting, wrapping, and replacing the DV.

FAA's Determination of the Effective Date

An unsafe condition exists that requires the immediate adoption of this AD. The FAA has found that the risk to the flying public justifies waiving notice and comment prior to adoption of this rule because the compliance requirements are within 10 flight hours or 7 days. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2017-0115 and Directorate Identifier 2017-NE-04-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 70 engines installed on helicopters of U.S. registry.

We estimate the following costs to comply with this AD:

Estimated Costs
Action | Labor cost | Parts cost | Cost per product | Cost on U.S. operators
Inspecting, wrapping, and replacing the DV | 4.5 work-hours × $85 per hour = $382.50 | $7,805 | $8,187.50 | $573,125

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-04-51 Safran Helicopter Engines, S.A.: Amendment 39-18824; Docket No. FAA-2017-0115; Directorate Identifier 2017-NE-04-AD.

(a) Effective Date

This AD is effective March 30, 2017 to all persons except those persons to whom it was made immediately effective by Emergency AD 2017-04-51, issued on February 8, 2017, which contained the requirements of this amendment.

(b) Affected ADs

None.

(c) Applicability

This AD applies to all Safran Helicopter Engines, S.A., Arriel 1A1, 1A2, 1B, 1C, 1C1, 1C2, 1D, 1D1, 1E2, 1K1, 1S, and 1S1 turboshaft engines equipped with a drain valve assembly (DV) with a part number and a serial number listed in Appendix 5.1 in Safran Helicopter Engines Alert Mandatory Service Bulletin (MSB) A292 73 0851, Version A, dated January 31, 2017.

(d) Subject

Joint Aircraft System Component (JASC) Code 7321, Fuel Control/Turbine Engines.

(e) Unsafe Condition

This AD was prompted by reports of fuel leaks originating from the DV on certain Arriel engines. We are issuing this AD to prevent an engine compartment fire, in-flight shutdown, and damage to the helicopter.

(f) Compliance

(1) Comply with this AD within the compliance times specified, unless already done.

(2) Within 10 flight hours or 7 days, whichever occurs first, after the effective date of this AD:

(i) Replace the affected DV with a DV eligible for installation. Use the Accomplishment Instructions, Paragraph 2, of Safran Helicopter Engines Alert MSB A292 73 0851, Version A, dated January 31, 2017, to do the replacement; or

(ii) Visually inspect the affected DV for fuel leakage.

(A) If a fuel leak is detected, replace the affected DV with a DV eligible for installation, before the next flight.

(B) If no fuel leak is detected, before next flight, wrap the affected DV with a self-amalgamate tape using the Accomplishment Instructions, paragraph 2, of Safran Helicopter Engines Alert MSB A292 73 0851, Version A, dated January 31, 2017.

(C) After wrapping an affected DV, as specified in paragraph (f)(2)(ii)(B) of this AD, inspect the DV for fuel leakage before each first flight of the day. If a fuel leak is detected, replace the affected DV with a DV eligible for installation, before the next flight.

(D) After wrapping an affected DV, as specified in paragraph (f)(2)(ii)(B) of this AD, inspect the DV wrapping before each first flight of the day. If the wrapping is found defective (loose, missing, or damaged), before the next flight, remove the wrap and re-wrap the affected DV using the Accomplishment Instructions, paragraph 2, of Safran Helicopter Engines Alert MSB A292 73 0851, Version A, dated January 31, 2017.

(E) For an engine on which the affected DV was wrapped, within 180 days after the first wrapping of the affected DV as specified in paragraph (f)(2)(ii)(B) of this AD, replace the affected DV with a DV eligible for installation.

(g) Definitions

For the purpose of this AD, a DV eligible for installation is:

(1) a DV that is not affected by this AD; or

(2) a DV in which the diaphragm has been replaced in accordance with the instructions in paragraph 4 of Safran Helicopter Engines Alert MSB A292 73 0851, Version A, dated January 31, 2017.

(h) Terminating Action

Replacement of an affected DV installed on an engine, with a DV eligible for installation constitutes terminating action for the repetitive inspections required by paragraph (f)(2)(ii) of this AD.

(i) Alternative Methods of Compliance (AMOCs)

The Manager, Engine Certification Office, may approve AMOCs for this AD. Use the procedures found in 14 CFR 39.19 to make your request. You may email your request to: ANE-AD-AMOC@faa.gov.

(j) Related Information

(1) For further information about this AD, contact: Robert Green, Aerospace Engineer, Engine Certification Office, FAA, Engine & Propeller Directorate, 1200 District Avenue, Burlington, MA 01803; phone: 781-238-7754; fax: 781-238-7199; email: robert.green@faa.gov.

(2) Refer to MCAI European Aviation Safety Agency Emergency AD No. 2017-0019-E, dated February 3, 2017, for more information.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Safran Helicopter Engines Alert Mandatory Service Bulletin A292 73 0851, Version A, dated January 31, 2017.

(ii) Reserved.

(3) For Safran Helicopter Engines service information identified in this AD, contact Safran Helicopter Engines, S.A., 40220 Tarnos, France; phone: (33) 05 59 74 40 00; fax: (33) 05 59 74 45 15.

(4) You may view this service information at FAA, Engine & Propeller Directorate, 1200 District Avenue, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on March 8, 2017.
Carlos A. Pestana,
Acting Assistant Manager, Engine & Propeller Directorate, Aircraft Certification Service.

[FR Doc. 2017-05236 Filed 3-14-17; 8:45 am]

BILLING CODE 4910-13-P